DEPARTMENT OF ENERGY

Federal Energy Regulatory Commission

[Project No. 13302-000]

Scott's Mill Hydropower, LLC; Notice of Preliminary Permit Application Accepted for Filing and Soliciting Comments, Motions To Intervene, and Competing Applications

December 8, 2008.

On October 14, 2008, Scott's Mill Hydropower, LLC filed an application, pursuant to section 4(f) of the Federal Power Act, proposing to study the feasibility of the Scott's Mill Hydropower Project to be located in Amherst and Bedford Counties, Virginia.

The proposed project consists of: (1) An existing 15-foot-high, 925-foot-long masonry dam, (2) an existing reservoir having a surface area of 316 acres, a storage capacity of 3,790 acre-feet, and normal maximum water surface elevation of 511 feet msl, (3) a proposed powerhouse with 4 generating units having a total capacity of 3.6 MW; (4) a proposed 250-foot-long transmission line; and (5) appurtenant facilities. The project would have an annual generation of 14.9 GWh, and would be sold to a local utility.

Applicant Contact: Mr. Kevin Edwards, P.O. Box 143, Mayodan, NC 27027, Phone: 336-589-6138. FERC Contact: Henry Woo, 202-502-8872.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13302) in the docket number field to access the document. For assistance, call toll-free 1-866-208-3372.

Kimberly D. Bose,
Secretary.

[FR Doc. E8-29473 Filed 12-11-08; 8:45 am]

BILLING CODE 6717-01-P